DEPARTMENT OF ENERGY

Federal Energy Regulatory Commission

Combined Notice of Filings

Take notice that the Commission has received the following Natural Gas Pipeline Rate and Refund Report filings:

Filings Instituting Proceedings

Docket Numbers: RP17-197-005.

Applicants: Dominion Energy Cove Point LNG, LP.

Description: Dominion Energy Cove Point LNG, LP submits tariff filing per 154.203: DECP—2016 Section 4 General Rate Case Motion to be effective 6/1/2017.

Filed Date: 05/19/2017.

Accession Number: 20170519-5148.

Comment Date: 5:00 p.m. Eastern Time on Friday, June 09, 2017.

Docket Numbers: RP17-764-000.

Applicants: Algonquin Gas Transmission, LLC.

Description: Algonquin Gas Transmission, LLC submits tariff filing per 154.204: Negotiated Rate—Boston Gas to BBPC—794005 & 794010 to be effective 6/1/2017.

Filed Date: 05/25/2017.

Accession Number: 20170525-5179.

Comment Date: 5:00 p.m. Eastern Time on Tuesday, June 06, 2017.

Docket Numbers: RP17-765-000.

Applicants: Alliance Pipeline L.P.

Description: Alliance Pipeline L.P. submits tariff filing per 154.204: Revise Force Majeure to be effective 7/1/2017.

Filed Date: 05/30/2017.

Accession Number: 20170530-5008.

Comment Date: 5:00 p.m. Eastern Time on Monday, June 12, 2017.

Docket Numbers: RP17-766-000.

Applicants: Noble Energy, Inc., HG Energy, LLC.

Description: Joint Petition of Noble Energy, Inc. and HG Energy II Appalachia, LLC for Temporary Waiver of Capacity Release Regulations and Related Tariff Provisions, and Request for Expedited Action and Shortened Comment Period under RP17-766.

Filed Date: 05/26/2017.

Accession Number: 20170526-5292.

Comment Date: 5:00 p.m. Eastern Time on Friday, June 02, 2017.

Docket Numbers: RP17-767-000.

Applicants: Hardy Storage Company, LLC.

Description: Hardy Storage Company, LLC submits tariff filing per 154.203: Penalty Revenue Crediting Report 2017.

Filed Date: 05/30/2017.

Accession Number: 20170530-5073.

Comment Date: 5:00 p.m. Eastern Time on Monday, June 12, 2017.

Docket Numbers: RP17-768-000.

Applicants: Dominion Energy Questar Pipeline, LLC.

Description: Dominion Energy Questar Pipeline, LLC submits tariff filing per 154.204: Change of Company Name—Dominion Energy Questar Pipeline, LLC to be effective 6/1/2017.

Filed Date: 05/30/2017.

Accession Number: 20170530-5086.

Comment Date: 5:00 p.m. Eastern Time on Monday, June 12, 2017.

Docket Numbers: RP17-769-000.

Applicants: Dominion Energy Overthrust Pipeline, LLC.

Description: Dominion Energy Overthrust Pipeline, LLC submits tariff filing per 154.204: Change of Company Name—Dominion Energy Overthrust Pipeline, LLC to be effective 6/1/2017.

Filed Date: 05/30/2017.

Accession Number: 20170530-5087.

Comment Date: 5:00 p.m. Eastern Time on Monday, June 12, 2017.

Docket Numbers: RP17-770-000.

Applicants: White River Hub, LLC.

Description: White River Hub, LLC submits tariff filing per 154.204: Change of Affiliate Company Name to be effective 6/1/2017.

Filed Date: 05/30/2017.

Accession Number: 20170530-5088.

Comment Date: 5:00 p.m. Eastern Time on Monday, June 12, 2017.

Docket Numbers: RP17-771-000.

Applicants: Iroquois Gas Transmission System, L.P.

Description: Iroquois Gas Transmission System, L.P. submits tariff filing per 154.204: 05/30/17 Negotiated Rates—ENI Trading & Shipping (RTS) 7825-02 to be effective 6/1/2017.

Filed Date: 05/30/2017.

Accession Number: 20170530-5132.

Comment Date: 5:00 p.m. Eastern Time on Monday, June 12, 2017.

Docket Numbers: RP17-772-000.

Applicants: ET Rover Pipeline LLC.

Description: ET Rover Pipeline LLC submits tariff filing per 154.202: Baseline Filing in Compliance with CP15-93, et al Order to be effective7/1/2017.

Filed Date: 05/30/2017.

Accession Number: 20170530-5134.

Comment Date: 5:00 p.m. Eastern Time on Monday, June 12, 2017.

Docket Numbers: RP17-773-000.

Applicants: ET Rover Pipeline LLC.

Description: ET Rover Pipeline LLC submits tariff filing per 154.202: Baseline Volume No. 1-A Filing in compliance with CP15-93 Order to be effective 7/1/2017.

Filed Date: 05/30/2017.

Accession Number: 20170530-5135.

Comment Date: 5:00 p.m. Eastern Time on Monday, June 12, 2017.

Docket Numbers: RP17-774-000.

Applicants: Panhandle Eastern Pipe Line Company, LP.

Description: Panhandle Eastern Pipe Line Company, LP submits tariff filing per 154.202: Baseline Filing Volume No. 1-A to be effective 7/1/2017.

Filed Date: 05/30/2017.

Accession Number: 20170530-5136.

Comment Date: 5:00 p.m. Eastern Time on Monday, June 12, 2017.

Docket Numbers: RP17-775-000.

Applicants: Panhandle Eastern Pipe Line Company, LP.

Description: Panhandle Eastern Pipe Line Company, LP submits tariff filing per 154.204: Non-Conforming List update—Rover to be effective 7/1/2017.

Filed Date: 05/30/2017.

Accession Number: 20170530-5137.

Comment Date: 5:00 p.m. Eastern Time on Monday, June 12, 2017.

Docket Numbers: RP17-776-000..

Applicants: Trunkline Gas Company, LLC.

Description: Trunkline Gas Company, LLC submits tariff filing per 154.204: Non-Conforming Agreement filed in compliance with CP15-93, et al to be effective 7/1/2017.

Filed Date: 05/30/2017.

Accession Number: 20170530-5140.

Comment Date: 5:00 p.m. Eastern Time on Monday, June 12, 2017.

Docket Numbers: RP17-778-000.

Applicants: National Fuel Gas Supply Corporation.

Description: National Fuel Gas Supply Corporation submits tariff filing per 154.204: Market Pooling(Aliquippa) & Other Changes to be effective 7/1/2017.

Filed Date: 05/30/2017.

Accession Number: 20170530-5145.

Comment Date: 5:00 p.m. Eastern Time on Monday, June 12, 2017.

Docket Numbers: RP17-779-000.

Applicants: Florida Southeast Connection, LLC.

Description: Florida Southeast Connection, LLC submits tariff filing per 154.204: Negotiated rate agreement to be effective 7/1/2017.

Filed Date: 05/30/2017.

Accession Number: 20170530-5188.

Comment Date: 5:00 p.m. Eastern Time on Monday, June 12, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 31, 2017.
Kimberly D. Bose,
Secretary.

[FR Doc. 2017-12166 Filed 6-12-17; 8:45 am]

BILLING CODE 6717-01-P